NUCLEAR REGULATORY COMMISSION

[NRC-2020-0183]

Fire Protection Program for Nuclear Power Plants During Decommissioning

AGENCY: Nuclear Regulatory Commission.

ACTION: Draft regulatory guide; request for comment.

SUMMARY: The U.S. Nuclear Regulatory Commission (NRC) is issuing for public comment draft regulatory guide (DG), DG-1370, “Fire Protection Program for Nuclear Power Plants During Decommissioning.” This proposed revision of the guide (Revision 1) addresses new information identified since Revision 0 of this guide was issued. The guidance in Revision 0 of the regulatory guide (RG) does not include guidance for plants that have transitioned to the National Fire Protection Association (NFPA) Standard 805, “Performance-Based Standard for Fire Protection for Light Water Reactor Electric Generating Plants,” 2001 Edition. This guide is being revised to include guidance for plants that have transitioned to NFPA 805, 2001 Edition.

DATES: Submit comments by October 13, 2020. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods:

• Federal Rulemaking Website: Go to http://www.regulations.gov and search for Docket ID NRC-2020-0183. Address questions about NRC docket IDs in Regulations.gov to Jennifer Borges; telephone: 301-287-9127; email: Jennifer.Borges@nrc.gov. For technical questions, contact the individuals listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Naeem Iqbal, Office of Nuclear Reactor Regulation, telephone: 301-415-3346, email: Naeem.Iqbal@nrc.gov and Harriet Karagiannis, Office of Nuclear Regulatory Research, telephone: 301-415-3346, email: Harriet.Karagiannis@nrc.gov. Both are staff of the U.S. Nuclear Regulatory Commission, Washington, DC 20555-0001.

SUPPLEMENTARY INFORMATION:

I. Obtaining Information and Submitting Comments

A. Obtaining Information

Please refer to Docket ID NRC-2020-0183 when contacting the NRC about the availability of information regarding this action. You may obtain publicly-available information related to this action, by any of the following methods:

• Federal Rulemaking Website: Go to http://www.regulations.gov and search for Docket ID NRC-2020-0183.

• NRC Agencywide Documents Access and Management System (ADAMS): You may obtain publicly available documents online in the ADAMS Public Documents collection at http://www.nrc.gov/reading-rm/adams.html. To begin the search, select “Begin Web-based ADAMS Search.” For problems with ADAMS, please contact the NRC's Public Document Room reference staff at 1-800-397-4209, 301-415-4737, or by email to pdr.resource@nrc.gov.

B. Submitting Comments

Please include Docket ID NRC-2020-0183 in your comment submission.

The NRC cautions you not to include identifying or contact information that you do not want to be publicly disclosed in your comment submission. The NRC posts all comment submissions at http://www.regulations.gov as well as enters the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

The NRC is issuing for public comment a draft guide in the NRC's “Regulatory Guide” series. This series was developed to describe methods that are acceptable to the NRC staff for implementing specific parts of the agency's regulations, to explain techniques that the staff uses in evaluating specific issues or postulated events, and to describe information that the staff needs in its review of applications for permits and licenses.

The DG, titled, “Fire Protection Program for Nuclear Power Plants During Decommissioning,” is proposed Revision 1 of RG 1.191 and is temporarily identified by its task number, DG-1370. This proposed revision addresses new information identified since Revision 0 of this guide was issued. The guidance in Revision 0 of the RG is for plants licensed under section 50.48(b) of title 10 of the Code of Federal Regulations (10 CFR) or 10 CFR part 50, appendix R, “Fire Protection Program for Nuclear Power Facilities Operating Prior to January 1, 1979.” Revision 0 does not include guidance for plants that have transitioned to the NFPA 805 licensing basis (i.e., 10 CFR 50.48(c)). This guide is being revised to include guidance for plants that have transitioned to NFPA 805, 2001 Edition, via 10 CFR 50.48(c). The DG is electronically available in ADAMS under Accession No. ML20078K920.

The staff is also issuing for public comment a draft regulatory analysis available in ADAMS under Accession No. ML20078K925. The staff develops a regulatory analysis to assess the value of issuing or revising a regulatory guide as well as alternative courses of action.

III. Backfitting, Forward Fitting, and Issue Finality

DG-1370 to RG 1.191, Revision 1, describes methods acceptable to the NRC staff for complying with the NRC's regulations for fire protection programs for licensees that have certified that their plants have permanently ceased operations and that the fuel has been permanently removed from the reactor vessels.

The staff does not, at this time, intend to impose the positions represented in the draft RG (if finalized) in a manner that would constitute backfitting or affect the issue finality of a 10 CFR part 52 approval. If, in the future, the staff seeks to impose a position in the draft RG (if finalized) in a manner that constitutes backfitting or does not provide issue finality as described in the applicable issue finality provision, then the staff would need to address the Backfit Rule or the criteria for avoiding issue finality as described in the applicable issue finality provision.

The staff does not, at this time, intend to impose the positions represented in the draft RG (if finalized) in a manner that would constitute forward fitting. If, in the future, the staff seeks to impose a position in the draft RG (if finalized) in a manner that constitutes forward fitting, then the staff would need to address the forward fitting criteria in Management Directive 8.4, “Management of Backfitting, Forward Fitting, Issue Finality, and Information Requests” (ADAMS Accession No. ML18093B087).

Dated: August 6, 2020.
For the Nuclear Regulatory Commission.
Meraj Rahimi,
Chief, Regulatory Guidance and Generic Issues Branch, Division of Engineering, Office of Nuclear Regulatory Research.

[FR Doc. 2020-17534 Filed 8-10-20; 8:45 am]

BILLING CODE 7590-01-P